DEPARTMENT OF HEALTH AND HUMAN SERVICES

Centers for Disease Control and Prevention

[30DAY-39-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

SAFE—Know Now—Media Campaign Evaluation—New—National Center for HIV, STD, and TB Prevention (NCHSTP), Centers for Disease and Prevention (CDC) proposes a media campaign to promote knowledge of HIV status, using marketing clusters to target media messages. The purpose of this campaign is to increase the number of HIV positive people who are aware of their status and are receiving appropriate medical treatment. It is believed that knowledge of infection will reduce risk behavior and medical treatment will reduce infectiousness. The Safe—Know Now—campaign has identified segments or ‘clusters’ of potential audience members based on geographic and demographic information. By targeting communications at these specific clusters, messages can be more effectively and efficiently conveyed to the proper audiences. CDC has utilized this approach to design media communications for target audiences as defined by Claritas PRIZM clusters. Beyond the immediate effectiveness of the campaign, the evaluation also seeks to determine if PRIZM targeting has proven to be an effective tool for communicating health messages.

CDC will conduct an evaluation of this campaign which will target five Claritas PRIZM clusters that currently have the highest incidences of AIDS cases. This clusters include Bohemian Mix (cluster 10), Single City Blues (cluster 45), Hispanic Mix (cluster 46), Inner Cities (cluster 47), and Southside City (cluster 51). The primary method for data collection will be a 15-minute campaign tracking survey administered via telephone in three markets, including two test markets and one control market. The test markets will be exposed to the campaign materials, while the control market will not. Pre-and post-exposure telephone surveys will be collected in each of the three markets, allowing comparison before and after effects of the campaign. Both the pre- and post-exposure market readings will be conducted with different samples, not with the same individuals across both waves. The total response burden for this data collection is 1,800 hours.

Respondents | No. of respondents | No. of responses per respondent | Average burden per response (in hours)
Telephone Survey—Pre | 3,600 | 1 | 15/60.
Telephone Survey—Post | 3,600 | 1 | 15/60.

Dated: June 25, 2001.
Nancy Cheal,
Deputy Director for Policy, Planning, and Evaluation, Centers for Disease Control and Prevention.

[FR Doc. 01-16629 Filed 7-2-01; 8:45 am]

BILLING CODE 4163-18-P